DEPARTMENT OF TRANSPORTATION

Surface Transportation Board

[Docket No. AB 33 (Sub-No. 306X); Docket No. AB 1091X]

Union Pacific Railroad Company—Abandonment and Discontinuance Exemption—in Cameron County, TX; Brownsville and Matamoras Bridge Company—Abandonment Exemption—in Cameron County, TX

On December 20, 2012, Union Pacific Railroad Company (UP) and Brownsville and Matamoras Bridge Company (B&M) (collectively, Petitioners) jointly filed with the Surface Transportation Board a petition under 49 U.S.C. 10502 for exemption from the provisions of 49 U.S.C. 10903 to permit: (1) UP to abandon and discontinue the portion of UP's Brownsville Subdivision from milepost 7.4 at Olmito Junction to milepost 0.22 at Brownsville, Tex. (UP's Brownsville Subdivision); and (2) B&M to abandon its 0.8 mile line from its connection to UP's Brownsville Subdivision near UP milepost 0.41 to the international border with Mexico located near the center-point of B&M's bridge at Brownsville (B&M Bridge Line), a total distance of 7.98 miles in Cameron County, Tex. (collectively, the Line). The Line traverses United States Postal Service Zip Code 78520 and includes no stations.

In addition to an exemption from the prior approval requirements of 49 U.S.C. 10903, Petitioners seek an exemption from 49 U.S.C. 10904 (offer of financial assistance procedures) and 10905 (public use provisions). In support, Petitioners state that no shippers are served by the Line and that there is an agreement in principle that, following abandonment, UP's Brownsville Subdivision will be transferred to Cameron County, Tex., and/or the City of Brownsville, Tex., for interim trail use. B&M asserts that the .08 mile B&M Bridge Line is unsuitable for both public use and interim trail use. B&M states that the B&M Bridge will remain under ownership of B&M, and the B&M Bridge may play some future role in the movement of motor vehicle traffic across the border between Mexico and the United States. These requests will be addressed in the final decision.

Petitioners state that the Line does not contain Federally granted rights-of-way. Any documentation in Petitioners' possession will be made available promptly to those requesting it.

The interest of railroad employees will be protected by the conditions set forth in Oregon Short Line Railroad—Abandonment Portion Goshen Branch Between Firth & Ammon, In Bingham & Bonneville Counties, Idaho, 360 I.C.C. 91 (1979).

By issuing this notice, the Board is instituting an exemption proceeding pursuant to 49 U.S.C. 10502(b). A final decision will be issued by April 9, 2013.

Any offer of financial assistance (OFA) under 49 CFR 1152.27(b)(2) will be due no later than 10 days after service of a decision granting the petition for exemption. Each OFA must be accompanied by a $1,600 filing fee. See 49 CFR 1002.2(f)(25).

All interested persons should be aware that, following abandonment of rail service and salvage of the Line, the Line may be suitable for other public use, including interim trail use. Any request for a public use condition under 49 CFR 1152.28 or for trail use/rail banking under 49 CFR 1152.29 will be due no later than January 29, 2013. Each trail use request must be accompanied by a $250 filing fee. See 49 CFR 1002.2(f)(27).

All filings in response to this notice must refer to Docket Nos. AB 33 (Sub-No. 306X) and AB 1091X, and must be sent to: (1) Surface Transportation Board, 395 E Street SW., Washington, DC 20423-0001; and (2) Mack H. Shumate, Jr., 101 North Wacker Drive, #1920, Chicago, IL 60606. Replies to the joint petition are due on or before January 29, 2013.

Persons seeking further information concerning abandonment procedures may contact the Board's Office of Public Assistance, Governmental Affairs, and Compliance at (202) 245-0238 or refer to the full abandonment or discontinuance regulations at 49 CFR part 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who comment during its preparation. Other interested persons may contact OEA to obtain a copy of the EA (or EIS). EAs in these abandonment proceedings normally will be made available within 60 days of the filing of the petition. The deadline for submission of comments on the EA will generally be within 30 days of its service.

This action will not significantly affect either the quality of the human environment or the conservation of energy resources.

Decided: January 3, 2013.
By the Board, Rachel D. Campbell, Director, Office of Proceedings.
Derrick A. Gardner,
Clearance Clerk.

[FR Doc. 2013-00243 Filed 1-8-13; 8:45 am]

BILLING CODE 4915-01-P